DEPARTMENT OF DEFENSE

Office of the Secretary

Senior Executive Service Performance Review Board

AGENCY: Office of the Inspector General of the Department of Defense.

ACTION: Notice.

SUMMARY: This notice announces the appointment of the members of the Senior Executive Service (SES) Performance Review Board (PRB) for the Office of the Inspector General of the Department of Defense (OIG DoD), as required by 5 U.S.C. 4314(c)(14).

The PRB provides fair and impartial review of SES performance appraisals and makes recommendations regarding performance ratings and performance awards to the Inspector General.

EFFECTIVE DATES: August 11, 2003.

FOR FURTHER INFORMATION CONTACT: Mr. Michael Peterson, Director, Human Capital Directorate, Office of the Chief of Staff, OIG DoD, 400 Army Navy Drive, Arlington, VA 22202, (703) 602-4516.

SUPPLEMENTARY INFORMATION: In accordance with 5 U.S.C. 4314(c)(4), the following executives are appointed to the OIG, DoD PRB:

Charles W. Beardall, Director, Defense Criminal Investigative Service, ODIG-Investigations.

Patricia A. Brannin, Assistant Inspector General for Audit Policy and Oversight, ODIG-Inspections and Policy.

David A. Brinkman, Director, Audit Follow-Up and Technical Support, ODIG-Auditing.

Thomas F. Gimble, Acting Deputy Inspector General for Intelligence.

Paul J. Granetto, Director, Defense Financial Auditing Service, ODIG-Auditing.

Louis J. Hansen, Deputy Inspector General for Inspections and Policy.

Francis E. Reardon, Deputy Inspector General for Auditing.

Richard T. Race, Deputy Inspector General for Investigations.

David K. Steensma, Deputy Assistant Inspector General of Auditing.

Shelton R. Young, Director, Readiness and Logistic Support, ODIG-Auditing.

Dated: August 5, 2003.
Patricia L. Toppings,
Alternate OSD Federal Register Liaison Officer, Department of Defense.

[FR Doc. 03-20441 Filed 8-11-03; 8:45 am]

BILLING CODE 5001-08-M